DEPARTMENT OF LABOR

Proposed Information Collection Request of the ETA 581, Contribution Operations Report; Extension Without Change

AGENCY: Employment and Training Administration, Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before November 21, 2011.

ADDRESSES: Send comments to Joseph Toth, U.S. Department of Labor, Employment and Training Administration, Office of Unemployment Insurance, 200 Constitution Avenue, NW., Frances Perkins Bldg. Room S-4524, Washington, DC, 20210, telephone number (202) 693-3894 (this is not a toll-free number) or by e-mail: toth.joseph@dol.gov.

SUPPLEMENTARY INFORMATION:

I. Background

The Office of Unemployment Insurance (OUI) of the Employment and Training Administration (ETA) has responsibility for the Tax Performance System (TPS) which evaluates the employer-related or tax functions of the UI program. The Contribution Operations report (Form ETA 581) is a comprehensive report of each state's UI tax operations and is essential in providing quarterly tax performance data to OUI. ETA 581 data are the basis for measuring the performance and effectiveness of states' UI tax operations. Using ETA 581 data, the TPS program measures performance, accuracy, and promptness in employer registration (status determinations), report delinquency, collections (accounts receivable), the audit function, and the detection of employer tax avoidance schemes, known as State Unemployment Tax Act (SUTA) Dumping.

II. Desired Focus of Comments

Currently, the Employment and Training Administration is soliciting comments concerning the proposed extension collection of the ETA 581, Contribution Operations Report. Comments are requested to:

• Evaluate whether the proposed collection of information is necessary to assess performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions

It is important that approval of the ETA 581 report be extended because this report is the only vehicle for collection of information required under the TPS program. If ETA 581 data were not collected, there would be no basis for determining the adequacy of funding for states’ UI tax operations, making projections and forecasts in the budgetary process, nor measuring program performance and effectiveness. The ETA 581 accounts receivable data are necessary in the preparation of complete and accurate financial statements for the Unemployment Trust Fund (UTF) and the maintenance of a modified accrual system for UTF accounting. Data on SUTA Dumping measures state compliance with section 303(k) of the Social Security Act, which is known as the SUTA Dumping Prevention Act of 2004.

Type of Review: Extension without change.

Agency: Employment and Training Administration.

Title: ETA 581, Report on Contribution Operations.

OMB Number: 1205-0178.

Agency Number: ETA 581.

Recordkeeping: Respondent is expected to maintain data which support the reported data for three years.

Affected Public: State Government.

Cite/Reference/Form/etc.: ETA 581.

Total Respondents: 53.

Frequency: Quarterly.

Total Responses: 212.

Average Time per Response: 8.5 hours.

Estimated Total Burden Hours: 1,802.

Total Burden Cost (operating/maintaining): $-0-

Comments submitted in response to this comment request will be summarized and/or included in the request for Office of Management and Budget approval of the information collection request; they will also become a matter of public record.

Dated: September 14, 2011.
Jane Oates,
Assistant Secretary, Employment and Training Administration.

[FR Doc. 2011-24269 Filed 9-20-11; 8:45 am]

BILLING CODE 4510-FW-P